DEPARTMENT OF AGRICULTURE

Agricultural Marketing Service

[Doc No. AMS-CP-22-0014]

Barriers Facing Small Firms and Businesses Providing Halal, Kosher and Organic Products in Commodity Contracting With the Agricultural Marketing Service

AGENCY: Agricultural Marketing Service, USDA.

ACTION: Notice of request for public comments.

SUMMARY: In keeping with ongoing efforts to increase the number of small and underserved businesses participating in the USDA food procurement program, as well as increasing access to culturally appropriate foods, the Agricultural Marketing Service (AMS) is seeking public input on perceived barriers that small businesses, those owned by underserved businesses, and providers of organic, kosher, and halal agricultural products face in working with AMS' Commodity Procurement Program (CPP). This input will be used to update CPP's Small Business and New Vendor Strategy as appropriate.

DATES: Comments must be received on or before December 27, 2022.

ADDRESSES: Interested persons are invited to submit written comments concerning this notice. All comments must be submitted through the Federal e-rulemaking portal at https://www.regulations.gov and should reference the document number and the date and page number of this issue of the Federal Register. Instructions for submitting and reading comments are detailed on the site. All comments submitted in response to this notice will be included in the record and will be made available to the public. Please be advised that the identity of the individuals or entities submitting comments will be made public on the internet at the address provided above.

FOR FURTHER INFORMATION CONTACT: Andrea Lang, or Diana Dau David, New Vendor Coordinators, USDA, AMS, Commodity Procurement Program, at NewVendor@usda.gov.

SUPPLEMENTARY INFORMATION: Each year the United States Department of Agriculture (USDA) Agricultural Marketing Service (AMS) collaborates with the Food and Nutrition Service, Foreign Agricultural Service and the U.S. Agency for International Development to purchase and distribute over $4 billion of U.S. agricultural products for distribution to schools, food banks, Tribal organizations, and international food aid operations, among others. AMS solicits for a large variety of products from vendors qualified to do business with the Agency. It is AMS's ongoing goal to increase the number of small and underserved businesses participating in the USDA food procurement program, as well as to increase the availability of culturally appropriate foods.

President Biden issued Executive Order (E.O.) E.O. 14017, “America's Supply Chains”; E.O. 13985, “Advancing Racial Equity and Support for Underserved Communities Through the Federal Government”; and E.O. 14036, “Promoting Competition in the American Economy.” E.O. 14017 focuses on the need for resilient, diverse, and secure supply chains to ensure U.S. economic prosperity and national security. E.O. 13985 focuses on identifying potential barriers that underserved communities and individuals may face in taking advantage of agency contracting opportunities. E.O. 14036 focuses on reviewing the state of competition within the agricultural market, including areas where a lack of competition may be of concern. In support of these executive orders, AMS is focusing on identifying and reducing barriers to becoming an approved vendor in order to increase competition and the availability of vital agricultural commodities for use in the USDA's nutrition assistance programs.

Commodity food products are purchased and delivered to schools, food banks, and households in communities on a domestic and global scale. Small and underserved companies play a crucial role in supplying food to the USDA. Last year, AMS awarded a record $1.4 billion dollars to small businesses through prime contracts, of which 13.73% of the contracts were awarded to small, underserved businesses; yet there is a need for more participation in the commodity procurement program. In addition to increasing the participation of small and underserved businesses, AMS is interested in purchasing larger volumes of halal, kosher, organic, and other culturally appropriate products.

This notice requests comments and information from the public to assist AMS in updating CPP's Small Business and New Vendor Strategy as appropriate.

AMS is particularly interested in comments and information directed to the policy objectives listed in E.O. 14017, E.O. 14036, and E.O. 13985 as they affect the U.S. and global supply chains. AMS is seeking input on the following topics:

i. Government business practices that might inhibit or deter small or underserved businesses, as well as halal, kosher, and organic providers, from participating in the USDA commodity procurement program, i.e., by producing and/or providing goods, services, and materials for CPP contracts;

ii. Regulations and business practices which may strain rather than strengthen the relationship between CPP and these providers;

iii. The use of past performance information during the vendor qualification process, source selection, contract performance, and the collection of such information;

iv. Increasing the CPP's utilization of small and underserved businesses, as well as halal, kosher, and organic providers;

v. CPP's efforts to assist businesses that seek to do business with the government, including experiences in working with CPP's contracting workforce;

vi. Contracting timelines (e.g., annual procurement schedule, length of advertising of opportunities, time between bid opening and contract award, delivery lead times, etc.) and the impact of those timelines;

vii. The availability of skilled labor and other personnel to sustain a competitive ecosystem;

viii. Policy recommendations or suggested executive, legislative, regulatory action to foster more resilient supply chains, greater competition in the agricultural market, and/or more small or underserved business participation in the procurement process;

ix. Any additional comments concerning small or underserved businesses and halal, kosher, organic, or others relevant to the assessment of supply chain resilience.

AMS plans to hold a listening session open to the public so that interested parties can provide verbal as well as written input. A date and time will be provided.

AMS encourages respondents to structure their comments using the same text above as identifiers for the areas of inquiry to which they are responding. This will assist the AMS in more easily reviewing and summarizing the comments received in response to these specific areas. For example, a commenter submitting comments responsive to (i), “Government business practices that might inhibit or deter small or underserved businesses, as well as halal, kosher, and organic providers, from participating in the USDA commodity procurement program, i.e., by producing and/or providing goods, services, and materials for CPP contracts” would use that same text as a heading in the public comment followed by the commenter's specific comments in this area. AMS encourages the use of an executive summary at the beginning of all comments and information to assist AMS in a more efficient review of the submitted documents.

Erin Morris,
Associate Administrator, Agricultural Marketing Service.

[FR Doc. 2022-23513 Filed 10-27-22; 8:45 am]

BILLING CODE 3410-02-P